DEPARTMENT OF HOMELAND SECURITY

Coast Guard

33 CFR Part 117

[CGD01-03-042]

Drawbridge Operation Regulations: Fore River, ME

AGENCY: Coast Guard, DHS.

ACTION: Notice of temporary deviation from regulations.

SUMMARY: The Commander, First Coast Guard District, has issued a temporary deviation from the drawbridge operation regulations for the Casco Bay Bridge, mile 1.5, across the Fore River between Portland and South Portland, Maine. Under this temporary deviation a three-hour advance notice for bridge openings will be required from 6 a.m. to 6 p.m., June 2, 2003 through June 6, 2003. This temporary deviation is necessary to facilitate fender repairs at the bridge.

DATES: This deviation is effective from June 2, 2003 through June 6, 2003.

FOR FURTHER INFORMATION CONTACT: John McDonald, Project Officer, First Coast Guard District, at (617) 223-8364.

SUPPLEMENTARY INFORMATION: The Casco Bay Bridge has a vertical clearance in the closed position of 55 feet at mean high water and 64 feet at mean low water. The existing drawbridge operation regulations are listed at 33 CFR 117.5.

The bridge owner, Maine Department of Transportation, requested a temporary deviation from the drawbridge operation regulations to facilitate fender repairs at the bridge.

Under this temporary deviation a three-hour advance notice will be required for bridge openings from 6 a.m. through 6 p.m., June 2, 2003 through June 6, 2003. Vessels that can pass under the bridge without a bridge opening may do so at all times.

The Coast Guard coordinated this closure with the mariners who normally use this waterway to help facilitate this necessary bridge repair and to minimize any disruption to the marine transportation system.

This deviation from the operating regulations is authorized under 33 CFR 117.35, and will be performed with all due speed in order to return the bridge to normal operation as soon as possible.

Dated: May 14, 2003.
John L. Grenier,
Captain, U.S. Coast Guard, Acting Commander, First Coast Guard District.

[FR Doc. 03-13060 Filed 5-23-03; 8:45 am]

BILLING CODE 4910-15-P